ENVIRONMENTAL PROTECTION AGENCY

[FRL-6918-8]

Draft EPA Guidelines for Management of Onsite/Decentralized Wastewater Systems and Guidance Manual Outline

AGENCY: Environmental Protection Agency (EPA).

ACTION: Extension of comment period.

SUMMARY: The EPA published a document in the Federal Register on October 6, 2000, concerning a request for comments on the draft EPA Guidelines for Management of Onsite/Decentralized Wastewater Systems and Guidance Manual Outline. With this notice, EPA is reopening and extending the comment period from December 5, 2000, to January 19, 2001.

DATES: Comments must be received on or before January 19, 2001.

ADDRESSES: Comments can be submitted online at http://www.epa.gov/owm/smallc/guidelines.htm, emailed to decentralized@epa.gov, via U.S. mail to Joyce Hudson, US EPA, Office of Wastewater Management (4204), 1200 Pennsylvania Avenue, NW., Washington, DC 20460, or faxed to (202) 564-2397.

FOR FURTHER INFORMATION CONTACT: Joyce Hudson, 202-564-0657

Dated: December 8, 2000.
J. Charles Fox,
Assistant Administrator for Office of Water.

[FR Doc. 00-32241 Filed 12-18-00; 8:45 am]

BILLING CODE 6560-50-P